NATIONAL ARCHIVES AND RECORDS ADMINISTRATION

Information Security Oversight Office

[NARA-2013-035]

State, Local, Tribal, and Private Sector Policy Advisory Committee (SLTPS-PAC); Notice of Meeting

AGENCY: National Archives and Records Administration.

ACTION: Notice of meeting.

SUMMARY: In accordance with the Federal Advisory Committee Act (5 U.S.C. app 2) and implementing regulation 41 CFR part 101-6, announcement is made for the following committee meeting.

Name of Committee: State, Local, Tribal, and Private Sector Policy Advisory Committee (SLTPS-PAC).

DATES: The meeting will be held on July 24, 2013, from 10:00 a.m. to 12:00 noon.

ADDRESSES: National Archives and Records Administration, 700 Pennsylvania Avenue NW., Jefferson Room, Washington, DC 20408.

Purpose: To discuss the matters relating to the Classified National Security Information Program for State, Local, Tribal, and Private Sector Entities.

FOR FURTHER INFORMATION CONTACT: Robert J. Skwirot, Senior Program Analyst, ISOO, National Archives Building, 700 Pennsylvania Avenue NW., Washington, DC 20408, on (202) 357-5398, or at robert.skwirot@nara.gov. Contact ISOO at ISOO@nara.gov.

SUPPLEMENTARY INFORMATION: This meeting will be open to the public. However, due to space limitations and access procedures, the name and telephone number of individuals planning to attend must be submitted to the Information Security Oversight Office (ISOO) no later than Friday, July 19, 2013. ISOO will provide additional instructions for gaining access to the location of the meeting.

Dated: July 8, 2013.
Patrice Little Murray,
Acting Committee Management Officer.

[FR Doc. 2013-16839 Filed 7-11-13; 8:45 am]

BILLING CODE 7515-01-P